DEPARTMENT OF TRANSPORTATION

Federal Aviation Administration

Twenty Third Meeting: RTCA Special Committee 203, Unmanned Aircraft Systems

AGENCY: Federal Aviation Administration (FAA), U.S. Department of Transportation (DOT)

ACTION: Meeting Notice of RTCA Special Committee 203, Unmanned Aircraft Systems.

SUMMARY: The FAA is issuing this notice to advise the public of the twenty third meeting of RTCA Special Committee 203, Unmanned Aircraft Systems.

DATES: The meeting will be held February 12-15, 2013, from 9:00 a.m.to 5:00 p.m.

ADDRESSES: The meeting will be held at RTCA, Inc., 1150 18th St. NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 203. The agenda will include the following:

Tuesday, February 12, 2013

Opening Plenary Session

• Introductory Remarks and Introductions

• Approval of Twenty Second Plenary Summary

• Chair & Leadership Updates

• Designated Federal Official (DFO) Update

• Workgroup Updates

• Plenary Adjourns until Friday

• Information Briefings

Mid-Morning/Afternoon

Workgroup Breakout Sessions

• System Engineering Workgroup

• Human Factors Subgroup

• C&C Workgroup

• S&A Workgroup

• Safety Workgroup

Wednesday, February 13 & Thursday, February 14

All Day—Workgroup Breakout Sessions

• System Engineering Workgroup

• C&C Workgroup

• S&A Workgroup

• Safety Workgroup

Friday, February 15

08:00-11:00 a.m.—Workgroup Breakout Sessions

• System Engineering Workgroup

• Human Factors Subgroup

• C&C Workgroup

• S&A Workgroup

• Safety Workgroup

11:00 a.m.

Plenary Reconvenes

• Workgroup Back Briefs

• Other Business

• Date, Place, and Time for Plenary Twenty Four

• Plenary Adjourns

12:00 p.m.

• Workgroup Breakouts TBD by each Workgroup

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 16, 2013.
Richard F. Gonzalez,
Management Analyst, Business Operations Group, ANG-A12, Federal Aviation Administration.

[FR Doc. 2013-02030 Filed 1-29-13; 8:45 am]

BILLING CODE 4910-13-P